DEPARTMENT OF STATE

[Public Notice 5963]

Announcement of Meetings of the International Telecommunication Advisory Committee

SUMMARY: This notice announces meetings of the International Telecommunication Advisory Committee (ITAC) to prepare advice on U.S. positions for meeting of the Advisory and Study Groups of the International Telecommunication Union—Telecommunication Standardization Sector (ITU-T).

The ITAC will meet as the ITAC-T to prepare for the ITU-T December 2007 Advisory Group meeting on November 14 and 19, 2007, in the Washington, DC metro area. Both meetings are from 10 a.m.-1 p.m. Eastern Time. A conference bridge will be provided. Meeting details will be posted on the mailing list itac-t@state.gov. People desiring to participate on this list may apply to the secretariat at minardje@state.gov.

The ITAC will meet as the ITAC Study Group B to prepare for the January 2008 meeting of ITU-T Study Groups 11, 13, and 19 hosted by COMTECH Telecommunications Corporation in Chantilly, Virginia. The meeting will start at 10 a.m. Eastern Time on December 14, 2007. A conference bridge will be provided. Meeting details will be posted on the mailing list sgb@state.gov. People desiring to participate on this list may apply to the secretariat at minardje@state.gov.

The meetings are open to the public.

Dated: October 18, 2007.
James G. Ennis,
International Communications & Information Policy, Department of State.

[FR Doc. E7-22140 Filed 11-9-07; 8:45 am]

BILLING CODE 4710-07-P